DEPARTMENT OF DEFENSE

Department of the Navy

[USN-2006-0028]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended.

DATES: This proposed action will be effective without further notice on July 14, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on June 6, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 7, 2006.
C.R. Choate,
Alternate OSD Federal Register Liaison Officer, Department of Defense.

N08370-1

System name:

Weapons Registration (May 9, 2003, 68 FR 24959) .

Changes:

* * * * *

N08370-1

System Identifier:

Delete entry and replace with: “NM08370-1”.

* * * * *

System location:

Delete first paragraph and replace with: “Organizational elements of the Department of the Navy. Official mailing addresses are published in the Standard Navy Distribution List that is available at http://neds.daps.dla.mil/sndl.htm.”

Categories of individuals covered by the system:

Delete entry and replace with: “Individuals registering firearms or other weapons with station security offices and/or Provost Marshal; all individuals who purchase a firearm or weapon at authorized exchange activities; and/or individuals who reside in government quarters who possess privately-owned firearms.”

Categories of records in the system:

Delete entry and replace with: “Weapon registration records; weapon permit records; notification to commanding officers of failure to register firearm purchased at authorized exchanges; exchange notification of firearm purchase; and all other records showing name, rank, SSN, organization, physical location of subject weapon, weapon description and such other identifiable items required to comply with all Federal, state, and local weapons registration ordinances.”

Authority for maintenance of the system:

Delete entry and replace with: “10 U.S.C. 5013, Secretary of the Navy; 10 U.S.C. 5041, Headquarters, Marine Corps; and E.O. 9397 (SSN) .”

* * * * *

Storage:

Delete entry and replace with: “Paper, microfiche, and automated records.”

* * * * *

Safeguards:

Delete entry and replace with: “Password controlled system, file, and element access based on predefined need-to-know. Physical access to terminals, terminal rooms, buildings and activities' grounds are controlled by locked terminals and rooms, guards, personnel screening and visitor registers.”

Retention and disposal:

Delete entry and replace with: “Records destroyed when individual leaves command.”

System manager(s) and address:

Delete entry and replace with: “Organizational elements of the Department of the Navy. Official mailing addresses are published in the Standard Navy Distribution List that is available at http://neds.daps.dla.mil/sndl. htm.”

Notification procedure:

Delete entry and replace with: “Individuals seeking to determine whether information about themselves is contained in this system should address written inquiries to the Commanding officer of the activity in question. Official mailing addresses are published in the Standard Navy Distribution List that is available at http://neds.daps.dla.mil/sndl.htm.

Written request must contain name and social security number and be signed.”

Record access procedures:

Delete entry and replace with: “Individuals seeking access to information about themselves contained in this system should address written inquiries to the Commanding officer of the activity in question. Official mailing addresses are published in the Standard Navy Distribution List that is available at http://neds.daps.dla.mil/sndl.htm.

Written request must contain name and social security number and be signed.”

* * * * *

NM08370-l

System name:

Weapons Registration.

System location:

Organizational elements of the Department of the Navy. Official mailing addresses are published in the Standard Navy Distribution List that is available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Individuals registering firearms or other weapons with station security offices and/or Provost Marshal; all individuals who purchase a firearm or weapon at authorized exchange activities; and/or individuals who reside in government quarters who possess privately-owned firearms.

Categories of records in the system:

Weapon registration records; weapon permit records; notification to commanding officers of failure to register firearm purchased at authorized exchanges; exchange notification of firearm purchase; and all other records showing name, rank, SSN, organization, physical location of subject weapon, weapon description and such other identifiable items required to comply with all Federal, state, and local weapons registration ordinances.

Authority for maintenance of the system:

10 U.S.C. 5013, Secretary of the Navy; 10 U.S.C. 5041, Headquarters, Marine Corps; and E.O. 9397 (SSN).

Purpose(s):

To assure proper control of weapons on installations and to monitor and control purchase and disposition of weapons.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper, microfiche, and automated records.

Retrievability:

Name, Social Security Number, Case number, organization.

Safeguards:

Password controlled system, file, and element access based on predefined need-to-know. Physical access to terminals, terminal rooms, buildings and activities' grounds are controlled by locked terminals and rooms, guards, personnel screening and visitor registers.

Retention and disposal:

Records destroyed when individual leaves command.

System manager(s) and address:

Organizational elements of the Department of the Navy. Official mailing addresses are published in the Standard Navy Distribution List that is available at http://neds.daps.dla.mil/sndl.htm.

Notification procedure:

Individuals seeking to determine whether information about themselves is contained in this system should address written inquiries to the Commanding officer of the activity in question. Official mailing addresses are published in the Standard Navy Distribution List that is available at http://neds.daps.dla.mil/sndl.htm.

Written request must contain name and social security number and be signed.

Record access procedures:

Individuals seeking access to information about themselves contained in this system should address written inquiries to the Commanding officer of the activity in question. Official mailing addresses are published in the Standard Navy Distribution List that is available at http://neds.daps.dla.mil/sndl.htm.

Written request must contain name and social security number and be signed.

Contesting record procedures:

The Navy's rules for accessing records, and for contesting contents and appealing initial agency determinations are published in Secretary of the Navy Instruction 5211.5; 32 CFR part 701; or may be obtained from the system manager.

Record source categories:

Individual concerned, other records of activity, investigators, witnesses, and correspondents.

Exemptions claimed for the system:

None.

[FR Doc. 06-5396 Filed 6-13-06; 8:45 am]

BILLING CODE 5001-06-M